DEPARTMENT OF AGRICULTURE

Animal and Plant Health Inspection Service

7 CFR Part 319

[Docket No. 00-068-2]

Cold Treatment for Fresh Fruits; Port of Corpus Christi, TX; Correction

AGENCY: Animal and Plant Health Inspection Service, USDA.

ACTION: Proposed rule; correction.

SUMMARY: We are correcting an error in the preamble portion of a proposed rule to add the maritime port of Corpus Christi, TX, to the list of ports that are designated as approved locations for cold treatment of imported fruit. The proposed rule was published in the Federal Register on June 1, 2001.

FOR FURTHER INFORMATION CONTACT: Donna L. West, Import Specialist, PPQ, APHIS, 4700 River Road Unit 140, Riverdale, MD 20737-1236; (301) 734-6799.

SUPPLEMENTARY INFORMATION: On June 1, 2001, we published in the Federal Register (66 FR 29735-29739, Docket No. 00-068-1) a proposed rule to add the maritime port of Corpus Christi, TX, to the list of ports that are designated as approved locations for cold treatment of imported fruit.

In the preamble portion of that proposed rule, in the section titled FOR FURTHER INFORMATION CONTACT, we provided an incorrect phone number. The correct phone number for the person listed under FOR FURTHER INFORMATION CONTACT is (301) 734-6799. This document corrects that error.

Correction

In FR Doc. 01-13758, published on June 1, 2001 (66 FR 29735-29739), make the following correction: On page 29735, in the second column, in the section titled FOR FURTHER INFORMATION CONTACT, correct “(301) 734-5007” to read “(301) 734-6799”.

Done in Washington, DC, this 25th day of June 2001.
Bobby R. Acord,
Acting Administrator, Animal and Plant Health Inspection Service.

[FR Doc. 01-16400 Filed 6-28-01; 8:45 am]

BILLING CODE 3410-34-P